DEPARTMENT OF HEALTH AND HUMAN SERVICES

Centers for Disease Control and Prevention

Announcement of Requirements and Registration for “I VetoViolence Because . . .”: Teen Dating Violence Prevention Public Service Announcement Contest

Authority: 15 U.S.C. 3719

AGENCY: Centers for Disease Control and Prevention (CDC), Department of Health and Human Services (HHS).

Award Approving Official: Thomas R. Frieden, MD, MPH, Director, Centers for Disease Control and Prevention, and Administrator, Agency for Toxic Substances and Disease Registry.

ACTION: Notice.

SUMMARY: The Centers for Disease Control and Prevention (CDC) located within the Department of Health and Human Services (HHS) launches the “I VetoViolence Because . . .”: Teen Dating Violence Prevention Public Service Announcement Contest. The purpose of the contest is to encourage the development of video public service announcements (PSA) that increase the understanding (1) that teen dating violence is a public health problem and (2) that prevention efforts can stop it before it starts. VetoViolence, under HHS/CDC's National Center for Injury Prevention and Control (Injury Center), asks violence prevention professionals, allied organizations, students, VetoViolence Facebook page fans, and the general public to develop PSAs about teen dating violence and the importance of prevention. The intended effect of the PSAs is to inspire viewers to take steps to stop teen dating violence before it starts by promoting healthy relationships among friends and loved ones and within schools and communities. The PSA finalists and winners will be showcased in three categories on the VetoViolence Facebook page, allowing participants to reach more people with effective and creative messages about preventing teen dating violence.

DATES: Contest begins on July 15, 2013 and ends on August 15, 2013. Judging will take place August 16-30, 2013, and winners will be notified on September 6, 2013, with prizes being awarded before September 30, 2013.

FOR FURTHER INFORMATION CONTACT: Alan Williams, Media Specialist, Division of Violence Prevention, National Center for Injury Prevention and Control, Centers for Disease Control and Prevention, 4770 Buford Highway NE., MS F64, Atlanta, GA 30341, Telephone: (770) 488-3893, email: wzj4@cdc.gov.

SUPPLEMENTARY INFORMATION:

Subject of Challenge Competition

Contestants entering the “I VetoViolence Because . . .”: Teen Dating Violence Prevention Public Service Announcement Contest will be asked to submit short (60 seconds or less), self-made PSAs about teen dating violence and the importance of prevention efforts.

Eligibility Rules for Participating in the Competition

The challenge is open to any contestant—defined as an individual or team of U.S. citizens or permanent residents of the United States. Contestants may submit more than one video to the challenge.

Contestants will be asked to self-identify as a student, violence prevention professional, or member of the general public when selecting an entry category (Student View, Violence Prevention Professional View, or General Public View). A student is defined as anyone enrolled in middle school, high school, or college and under age 25. Contestants must be at least 13 years of age to enter.

To be eligible to win a prize under this challenge, an individual or entity—

(1) Shall have registered to participate in the competition under the rules published by the Centers for Disease Control and Prevention's National Center for Injury Prevention and Control at vetoviolence.challenge.gov;

(2) Shall have complied with all the requirements under this section;

(3) In the case of a private entity, shall be incorporated in and maintain a primary place of business in the United States, and in the case of an individual, whether participating singly or in a group, shall be a citizen or permanent resident of the United States; and

(4) May not be a Federal entity or Federal employee acting within the scope of their employment;

(5) Shall not be an HHS employee working on their applications or submissions during assigned duty hours;

(6) May not be employees of the HHS/CDC Injury Center, judges of the challenge, or any other party involved with the design, production, execution, or distribution of the challenge or their immediate family (spouse, parents or step-parents, siblings and step-siblings, and children and step-children).

(7) Federal grantees may not use Federal funds to develop COMPETES Act (www.nsf.gov/statistics/about/BILLS-111hr5116enr.pdf) challenge applications unless consistent with the purpose of their grant award.

(8) Federal contractors may not use Federal funds from a contract to develop COMPETES Act challenge applications or to fund efforts in support of a COMPETES Act challenge submission.

An individual or entity shall not be deemed ineligible because the individual or entity used Federal facilities or consulted with Federal employees during a competition if the facilities and employees are made available to all individuals and entities participating in the competition on an equitable basis.

By participating in this challenge, contestants agree to assume any and all risks and waive claims against the Federal Government and its related entities, except in the case of willful misconduct, for any injury, death, damage, or loss of property, revenue, or profits, whether direct, indirect, or consequential, arising from participation in this prize contest, whether the injury, death, damage, or loss arises through negligence or otherwise. By participating in this challenge, contestants agree to indemnify the Federal Government against third party claims for damages arising from or related to challenge activities.

Registration Process for Participants: Contestants must register for the “I VetoViolence Because . . .”: Teen Dating Violence Prevention Public Service Announcement Contest Challenge through www.challenge.gov. Interested persons should read the official rules posted on the challenge site, vetoviolence.challenge.gov. Prior to entering a submission to the challenge, contestants must follow the challenge rules before the end of the submission period.

Amount of the Prize: One prize winner for each category, including General Public View, Student View, and Violence Prevention Professional View, will receive an award in the amount of $500 after the notification of the winners. A total of $1,500 will be distributed as awards by the contractor.

Payment of the Prize: Prizes under this competition will be paid by electronic funds transfer by Westat Health Communications as part of their VetoViolence Facebook contract with the HHS/CDC Injury Center's Division of Violence Prevention.

Basis Upon Which Winners Will be Selected: Submissions to the challenge will be assessed by a panel of judges composed of HHS/CDC Injury Center teen dating violence subject matter experts and communications staff and external injury and violence professionals in compliance with the requirements of the America COMPETES Act. Judges will be named after the commencement of the challenge on July 15, 2013. The judging panel will make decisions based on the following criteria:

(1) Creativity: Each entry will be judged on creativity demonstrated in the delivery of teen dating violence prevention messages.

(2) Communication of teen dating violence prevention messages: Each entry will be judged on the expression of positive prevention of teen dating violence messages. The submissions should not contain real or simulated acts of violence, profane language, inappropriate content, or personal or professional attacks.

(3) Length of Video: Each entry should be 60 seconds or less.

(4) Video and Audio Quality: Each entry should be visually focused and have audible sound quality. Submissions should not be difficult to watch because of an unclear image or to hear because of a poor audio recording.

(5) Fulfilling contest purpose: Each entry will be judged on its overall success in meeting the contest goal: Development of video public service announcements (PSA) that increase the understanding (1) that teen dating violence is a public health problem and (2) that prevention efforts can stop it before it starts.

One prize winner for each category—General Public View, Student View, and Violence Prevention Professional View—will receive an award in the amount of $500 after the notification of the winners. A total of $1,500 will be distributed among the three winners.

Additional Information: Finalists and the contest winners must comply with all terms and conditions of the official rules posted on the challenge site, vetoviolence.challenge.gov, and winning is contingent upon fulfilling all requirements herein. The finalists will be notified by email, telephone, or mail after the date of the judging.

Contestant information provided during registration will be used to respond to contestants in matters regarding their submission, announcements of entrants, finalists, and winners of the contest. Information is not collected for commercial marketing. Winners are permitted to cite that they won this contest.

HHS/CDC reserves the right to cancel, suspend, and/or modify the contest, or any part of it, for any reason, at HHS/CDC's sole discretion.

More information on teen dating violence may be found at http://www.cdc.gov/violenceprevention/intimatepartnerviolence/teen_dating_violence.html. More information on VetoViolence may be found at http://vetoviolence.cdc.gov/ and http://www.facebook.com/vetoviolence.

Dated: July 5, 2013.
Tanja Popovic,
Deputy Associate Director for Science, Centers for Disease Control and Prevention.

[FR Doc. 2013-16619 Filed 7-10-13; 8:45 am]

BILLING CODE 4163-18-P